DEPARTMENT OF COMMERCE

[I.D. 102300F ]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: StormReady Application Form.

Form Number(s): None.

OMB Approval Number: 0648-0419.

Type of Request: Regular submission.

Burden Hours: 40.

Number of Respondents: 40.

Average Hours Per Response: 1.

Needs and Uses: StormReady is a community-recognition program for emergency management. The StormReady Application Form allows the National Weather Service to collect the information needed to recognize communities that are sufficiently prepared for adverse weather before an event happens.

Affected Public: State, Local, or Tribal Government.

Frequency: On occasion.

Respondent's Obligation: Voluntary.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: October 20, 2000.
Madeleine Clayton,
Departmental Forms Clearance Officer, Office of the Chief Information Officer.

[FR Doc. 00-27697 Filed 10-26-00; 8:45 am]

BILLING CODE: 3510-22 -S